ENVIRONMENTAL PROTECTION AGENCY

[FRL-6984-2]

Notice of Availability of Funds for Source Water Protection

AGENCY: Environmental Protection Agency.

ACTION: Notice.

SUMMARY: The Environmental Protection Agency (EPA) seeks proposals from organizations interested in working with communities across the nation that are served by public water systems with highly or moderately susceptible drinking water sources to protect their sources of drinking water from contamination using a resource-based or geographic/regional-based approach. All communities involved in this effort should have completed source water assessments.

EPA is providing this financial support to provide training and technical assistance on innovative approaches that will assist communities across the country in establishing sustainable efforts to address the obstacles to preventing contamination of their water resources and lowering the susceptibility of source waters through a resource-based or geographic regional-based planning approach.

EPA is currently funding an organization with a national network of field technicians assisting communities with watershed or resource-based planning to protect their water supplies. However, EPA is very interested in funding training and technical assistance across the country of innovative types of approaches that can be sustained by community efforts to prevent contamination of drinking water sources. EPA will award one grant that would complement the field technician approach.

DATES: All project proposals must be received by EPA no later than June 28, 2001.

ADDRESSES: Send five paper copies of the complete proposal to: Debra Gutenson (4606), Office of Ground Water and Drinking Water, U. S. EPA, 1200 Pennsylvania Ave., NW, Washington, DC 20460; and an electronic copy of the completed proposal to gutenson.debra@epa.gov.

FOR FURTHER INFORMATION CONTACT: Debra Gutenson, (202) 260-2733.

SUPPLEMENTARY INFORMATION:

Background

What Is a State or Tribal Source Water Assessment?

As mandated by the Safe Drinking Water Act Amendments of 1996, a state's source water assessment identifies the area that supplies water to each public drinking water system within the state, inventories the significant potential sources of contamination, and analyzes how susceptible the drinking water source is to contamination (often referred to as a “susceptibility determination”). An assessment is complete when the results are made widely available to the public. The Amendments allocated funding to states to complete source water assessments for all 170,000 public water systems. The results of these assessments are to be provided to each water supplier and made widely accessible to the public by 2003 (a few states are scheduled for completion in 2004). EPA is also helping Tribes complete source water assessments of public water supplies in Indian Country.

The assessments are intended to give communities the information that they need to make informed decisions to prevent contamination of their drinking water sources.

What Is a Highly or Moderately Susceptible Drinking Water Source?

There is a high degree of flexibility in how a state determines the susceptibility of its public water systems. EPA is providing this funding to focus on highly or moderately susceptible drinking water sources. Therefore, the organization receiving this funding would need to work with the state source water programs to identify those public water systems or areas of the state that the state determines are highly or moderately susceptible to contamination and would most benefit from source water contamination prevention planning and actions on a resource-based or geographic/regional-based scale.

What Is Source Water Contamination Prevention?

Source water contamination prevention is the establishment of sustainable local programs that lower the risk of contaminants of concern entering waters serving as public drinking water supplies. Building upon State or Tribal source water assessments, more communities will be examining what actions are necessary to prevent contamination of their sources of drinking water from the identified potential threats, and thereby lower the susceptibility of their water supply to contamination. Planning is a critical first step so that a community or a group of communities can use their limited resources to most effectively target sources of contamination that pose the highest or most immediate threats. Many communities need assistance working through the planning process. Implementing planned actions is the next step and communities also need assistance to develop sustainable efforts to initiate and/or maintain lowered susceptibility of their water supplies.

Ideally, communities with public water systems that share the same resource or common threats would work together to identify their needs and jointly set priorities. Some basic planning elements include:

—An analysis of the state or tribal source water assessment for the systems involved in the planning.

—Identification of preventive action priorities and recommended management measures for addressing them, including costs.

—Identification of an approach for determining the effect of the proposed priority actions on lowering the threats to source waters.

—Identification of alternative water supplies which would be needed in the case of emergencies (contingency planning).

Many communities also need assistance in implementing their priority preventive actions so a community has the capacity to maintain these actions once outside assistance is complete. Preventive actions might include land acquisition, land use ordinance establishment, leaky underground gas tank removal from sensitive areas, implementing best management practices on agricultural lands, relocation of high-risk threats, or other management measures.

Additionally, many communities need assistance in locating funding sources for implementing and sustaining management measures once such preventive measures are identified. There are many federal, state and non-governmental sources of funding that may be available.

What Is “Resource-Based or Geographic/Regional-Based” Source Water Contamination Prevention?

A resource-based or geographic/regional-based approach to source water contamination prevention promotes partnerships between public water systems that share a common source (river, lake, spring or aquifer), share common political or geographical borders (counties or planning districts), or face common contaminant threats. The approach encourages joint contamination prevention of water supplies through a single planning and prioritization process. A single water system might also benefit from a resource-based or geographic/regional-based approach if the community cannot adequately prevent contamination of its drinking water source without collaborating with communities in the same watershed or recharge area that may have more control over potential threats to the water supply.

While similar, a resource-based or geographic/regional-based approach is distinguished from watershed planning by focusing also on ground water areas that may not coincide with a watershed boundary. It is distinguished from traditional wellhead protection planning by broadening the scope from the traditional water system-by-system planning approach to planning on a shared resource scale that is based on natural geological and hydrological boundaries. However, a resource-based or geographic/regional-based approach is not necessarily the same as large aquifer-wide planning (such as the Edwards aquifer) or a large watershed (e. g. Mississippi basin). These large scales often are beyond the scope of what is realistic or necessary for preventing contamination of sources of drinking water.

Why Is EPA Limiting the Focus to Highly or Moderately Susceptible Source Waters, and Using a Resource-Based or Geographic/Regional-Based Approach?

There are over 170,000 public water systems in the United States. While States have resources through the State Revolving Fund Programs, EPA has limited discretionary resources to help local communities implement source water contamination prevention for all of these systems' sources of drinking water. EPA believes that communities with public water supplies that are most susceptible to contamination should be the communities first targeted for assistance to identify and implement preventive management measures to protect their drinking water sources.

EPA is also trying to encourage a resource-based or geographic/regional-based approaches to source water contamination prevention as an alternative to the traditional water system-by-system wellhead protection approach. This “multi-system” planning and action process can be more cost effective because one contamination prevention plan serves several systems. Also, it can result in a level of protection that is sometimes more effective in lowering threats, since threats to water quality are not always close to the intake or wellhead.

Why Is EPA Looking for Innovative Approaches in Addition to the National Field Presence It Is Establishing?

EPA recognizes that there is no one right approach to achieving source water contamination prevention, and wants to encourage innovative approaches to establish sustainable local efforts that deal with the variety of factors affecting a community's success. This funding will allow for training and technical assistance of different approaches that, after evaluation, may be incorporated more broadly across the country by the national field technicians.

Funding Level and Statutory Authority

Funding is authorized under the Safe Drinking Water Act 42 U.S.C. 300j-1(c)(3)(C). Total funding available for this proposal is $398,000. EPA intends to disburse these funds to one organization.

Proposal Contents

Interested applicants should submit a work plan that:

—Outlines the training and technical assistance on innovative approaches in assisting communities to engage in community-based source water contamination prevention planning and priority action implementation that could lead to sustained efforts once outside assistance is complete. Elements of training and technical assistance should include: process for choosing local communities or areas, method for evaluation of state and local source water assessment information, development of a contamination prevention plan, methods of assisting communities with innovative preventive approaches that can be sustained, and a process of evaluation for the approaches used.

—Includes a budget of no more than $398,000 for implementing the approach over a two-year period.

—Provides biographies of the project leaders.

Eligibility Criteria

The recipient organization must be a not-for-profit organization, educational institution, or public agency that meets the following criteria:

—Experience providing technical assistance to communities implementing community-based environmental programs that could prevent contamination of drinking water sources, ground water or surface water quality.

—Experience working with communities to do resource-based or geographic/regional-based/watershed or multi-jurisdictional planning, and facilitating partnerships between disparate stakeholders.

—Access to an established network capable of working with communities nationwide.

—Experience working with state agencies.

—Experience handling large grants of $200,000 or more, timely periodic reporting of progress and displaying the results of those grants to a wide public.

EPA Project Proposal Evaluation Criteria

EPA will evaluate all applicants based on the following criteria:

—Clearly describes the training and technical assistance that the organization will provide on innovative sustainable approaches taken in a variety of regions across the country to assist communities served by public water systems that have state-identified highly or moderately susceptible source waters. Includes a process for: choosing local communities or areas, evaluating state and local source water assessment information, developing a contamination prevention plan at the geographic or regional level, assisting communities with innovative approaches or management actions that can be sustained at the community level, and evaluating the approaches used. (50 points)

—Demonstrates knowledge of source water contamination prevention and ability to provide assistance to communities to effectively prevent contamination of their drinking water supplies and address their highest priority needs. (25 points)

—Describes approach to community involvement in source water contamination prevention planning. (20 points)

—Leverages other resources as part of the proposed approach. (5 points )

Application Procedure

Please submit five paper copies of a proposal that includes a narrative work plan and budget that does not exceed 10 single spaced pages, with one-inch margins and 12-point font, stapled in one corner with no binding. You may also include up to 15 pages of supplementary material, such as the resumes and summaries of prior work. Please also submit an electronic copy of the completed proposal to Debra Gutenson at “Gutenson.Debra@epa.gov.” After the EPA review, the selected applicant will be asked to submit an SF-424.

Schedule of Activities

This is the estimated schedule of activities for review and award of proposals:

—Day 30: Proposals due 30 days after publication of Federal Register notice.

—Day 44: All applicants notified of government review status.

—Day 54: Selected applicant submits a SF-424.

—Day 64: Selected application(s) forwarded to EPA grants office.

—Day 94: Grants processing complete/Congressional notifications.

Dated: May 15, 2001.
Cynthia C. Dougherty,
Director, Office of Ground Water and Drinking Water.

[FR Doc. 01-13407 Filed 5-25-01; 8:45 am]

BILLING CODE 6560-50-P